DEPARTMENT OF THE TREASURY

Submission for OMB Review; Comment Request

May 8, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 19, 2000 to be assured of consideration.

Internal Revenue Service (IRS)

OMB Number: 1545-1251.

Regulation Project Number: PS-5-91 Final.

Type of Review: Extension.

Title: Limitations on Percentage Depletion in the Case of Oil and Gas Wells.

Description: Section 1.613A-3(e)(6)(I) of the regulations requires each partner to separately keep records of the partner's share of the adjusted basis of partnership oil and gas property.

Respondents: Business or other for-profit.

Estimated Number of Recordkeepers: 1,500,000.

Estimated Burden Hours Per Recordkeeper: 2 minutes.

Estimated Total Recordkeeping Burden: 49,950 hours.

OMB Number: 1545-1545.

Regulation Project Number: REG-107644-97 Final.

Type of Review: Extension.

Title: Permitted Elimination of Preretirement Optional Forms of Benefits.

Description: The regulation permits an amendment to a qualified plan that eliminates certain Preretirement optional forms of benefit.

Respondents: Business or other for-profit.

Estimated Number of Recordkeepers: 135,000.

Estimated Burden Hours Per Recordkeeper: 22 minutes.

Estimated Total Recordkeeping Burden: 48,800 hours.

OMB Number: 1545-1685.

Regulation Project Number: REG-103735-00 NPRM and Temporary.

Type of Review: Extension.

Title: Tax Shelter Disclosure Statements.

Description: The regulations provide guidance on the filing requirement under section 6011 for certain corporate taxpayers engaged in transactions producing tax savings in excess of certain dollar thresholds.

Respondents: Business or other for-profit.

Estimated Number of Respondents/Recordkeepers: 50.

Estimated Burden Hours Per Respondent/Recordkeeper: 30 minutes.

Frequency of Response: Annually.

Estimated Total Reporting/Recordkeeping Burden: 25 hours.

OMB Number: 1545-1686.

Regulation Project Number: REG-103736-00 NPRM and Temporary.

Type of Review: Extension.

Title: Requirement to Maintain List of Investors in Potentially Abusive Tax Shelters.

Description: The regulations provide guidance on the requirement under section 6112 to maintain a list of investors in potentially abusive tax shelters.

Respondents: Business or other for-profit.

Estimated Number of Recordkeepers: 50.

Estimated Burden Hours Per Recordkeeper: 2 hours, 2 minutes.

Estimated Total Recordkeeping Burden: 102 hours.

OMB Number: 1545-1687.

Regulation Project Number: REG-110311-98 NPRM and Temporary.

Type of Review: Extension.

Title: Corporate Tax Shelter Registration.

Description: The regulations provide the guidance required to activate the registration requirements of IRC § 6707 for confidential tax shelters described in IRC § 6111(d).

Respondents: Business or other for-profit.

Estimated Number of Respondents: 4.

Estimated Burden Hours Per Respondent: 15 minutes.

Frequency of Response: On occasion.

Estimated Total Reporting Burden: 1 hour.

Clearance Officer: Garrick Shear, Internal Revenue Service, Room 5244, 1111 Constitution Avenue, NW, Washington, DC 20224

OMB Reviewer: Alexander T. Hunt, (202) 395-7860, Office of Management and Budget, Room 10202, New Executive Office Building, Washington, DC 20503.

Lois K. Holland,
Departmental Reports Management Officer.

[FR Doc. 00-12602 Filed 5-18-00; 8:45 am]

BILLING CODE 4830-01-P